DEPARTMENT OF ENERGY

Federal Energy Regulatory Commission

Combined Notice of Filings

Take notice that the Commission has received the following Natural Gas Pipeline Rate and Refund Report filings:

Filings Instituting Proceedings

Docket Numbers: RP19-1401-000.

Applicants: Texas Eastern Transmission, LP.

Description: § 4(d) Rate Filing: Negotiated Rate—Chevron to Eco-Energy eff 8-1-19 to be effective 8/1/2019.

Filed Date: 7/29/19.

Accession Number: 20190729-5028.

Comments Due: 5 p.m. ET 8/12/19.

Docket Numbers: RP19-1402-000.

Applicants: Algonquin Gas Transmission, LLC.

Description: § 4(d) Rate Filing: Negotiated Rates—Boston releases to SFE eff 8-1-19 to be effective 8/1/2019.

Filed Date: 7/29/19.

Accession Number: 20190729-5033.

Comments Due: 5 p.m. ET 8/12/19.

Docket Numbers: RP19-1403-000.

Applicants: Big Sandy Pipeline, LLC.

Description: Compliance filing Big Sandy Fuel Filing effective 9/1/2019.

Filed Date: 7/29/19.

Accession Number: 20190729-5038.

Comments Due: 5 p.m. ET 8/12/19.

Docket Numbers: RP19-1404-000.

Applicants: Panhandle Eastern Pipe Line Company, LP.

Description: § 4(d) Rate Filing: Rate Schedules Clarification to be effective 8/29/2019.

Filed Date: 7/29/19.

Accession Number: 20190729-5078.

Comments Due: 5 p.m. ET 8/12/19.

Docket Numbers: RP19-1405-000.

Applicants: Dominion Energy Overthrust Pipeline, LLC.

Description: Annual Fuel Gas Reimbursement Report of Dominion Energy Overthrust Pipeline, LLC under RP19-1405.

Filed Date: 7/29/19.

Accession Number: 20190729-5151.

Comments Due: 5 p.m. ET 8/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 30, 2019.
Nathaniel J. Davis, Sr.,
Deputy Secretary.

[FR Doc. 2019-16624 Filed 8-2-19; 8:45 am]

BILLING CODE 6717-01-P